DEPARTMENT OF AGRICULTURE

Animal and Plant Health Inspection Service

[Docket No. APHIS-2011-0015]

Importation of Garlic From the European Union and Other Countries Into the Continental United States

AGENCY: Animal and Plant Health Inspection Service, USDA.

ACTION: Notice.

SUMMARY: We are advising the public that we have prepared a commodity import evaluation document (CIED) that evaluates the phytosanitary measures under which garlic may be imported into the continental United States from the European Union and several other countries. Currently, garlic may be imported from these countries into the United States only if it is treated for certain pests. Based on the CIED, we believe that the application of one or more designated phytosanitary measures other than treatment will be sufficient to mitigate the risks of introducing or disseminating plant pests or noxious weeds via the importation of garlic from these countries into the continental United States. We are making the CIED available to the public for review and comment.

DATES: We will consider all comments that we receive on or before May 20, 2011.

ADDRESSES: You may submit comments by either of the following methods:

• Federal eRulemaking Portal: Go to http://www.regulations.gov/fdmspublic/component/main?main=DocketDetail&d=APHIS-2011-0015 to submit or view comments and to view supporting and related materials available electronically.

• Postal Mail/Commercial Delivery: Please send one copy of your comment to Docket No. APHIS-2011-0015, Regulatory Analysis and Development, PPD, APHIS, Station 3A-03.8, 4700 River Road Unit 118, Riverdale, MD 20737-1238. Please state that your comment refers to Docket No. APHIS-2011-0015.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Mr. Tony Román, Import Specialist, Plant Protection and Quarantine, APHIS, 4700 River Road Unit 133, Riverdale, MD 20737-1236; (301) 734-5820.

SUPPLEMENTARY INFORMATION:

Background

Under the regulations in “Subpart—Fruits and Vegetables” (7 CFR 319.56-1 through 319.56-50, referred to below as the regulations), the Animal and Plant Health Inspection Service (APHIS) of the U.S. Department of Agriculture prohibits or restricts the importation of fruits and vegetables into the United States from certain parts of the world to prevent plant pests from being introduced into and spread within the United States.

There are two pests of concern associated with the importation of garlic (Allium sativum L.) from most countries in the world: Weevils in the genus Brachycerus spp. and the moth larvae Dyspessa ulula. Both of these pests have stages that may feed internally in the garlic cloves.

Currently, several countries are authorized to export garlic (dry bulbs, no green leaves) to the United States only if the commodity undergoes vacuum fumigation with methyl bromide for Brachycerus spp. and D. ulula. These countries are Algeria, Armenia, Austria, Azerbaijan, Belarus, Bosnia and Herzegovina, Bulgaria, Croatia, Czech Republic, Egypt, Estonia, Georgia, Germany, Greece, Hungary, Israel, Kazakhstan, Kyrgyzstan, Latvia, Lebanon, Lithuania, the Republic of Macedonia, Moldova, Montenegro, Morocco, Palestine Authority, Portugal, Romania, Russian Federation, Serbia, Slovakia, Slovenia, Switzerland, Syria, Tajikistan, Turkey, Turkmenistan, Ukraine, and Uzbekistan. In this document, we refer to them as the European Union (EU) and other countries.

Section 319.56-4 contains a performance-based process for approving the importation of commodities that, based on the findings of a pest risk analysis, can be safely imported subject to one or more of the designated phytosanitary measures listed in paragraph (b) of that section. These measures are:

• The fruits or vegetables are subject to inspection upon arrival in the United States and comply with all applicable provisions of § 319.56-3;

• The fruits or vegetables are imported from a pest-free area in the country of origin that meets the requirements of § 319.56-5 for freedom from that pest and are accompanied by a phytosanitary certificate stating that the fruits or vegetables originated in a pest-free area in the country of origin;

• The fruits or vegetables are treated in accordance with 7 CFR part 305;

• The fruits or vegetables are inspected in the country of origin by an inspector or an official of the national plant protection organization of the exporting country, and have been found free of one or more specific quarantine pests identified by the risk analysis as likely to follow the import pathway; and/or

• The fruits or vegetables are a commercial consignment.

APHIS received a request from the Government of Egypt to allow the importation of garlic bulbs from Egypt into the continental United States without vacuum chamber fumigation. We have prepared a commodity import evaluation document (CIED) to evaluate whether vacuum fumigation is necessary to mitigate the risk from Brachycerus spp. and D. ulula. We have concluded that garlic can be safely imported into the continental United States from the EU and other countries without vacuum fumigation by using one or more of the five designated phytosanitary measures listed in § 319.56-4(b).

Therefore, in accordance with § 319.56-4(c), we are announcing the availability of our CIED for public review and comment. The CIED may be viewed on the Regulations.gov Web site or in our reading room (see ADDRESSES above for instructions for accessing Regulations.gov and information on the location and hours of the reading room). You may request paper copies of the CIED by calling or writing to the person listed under FOR FURTHER INFORMATION CONTACT. Please refer to the subject of the CIED when requesting copies.

After reviewing the comments we receive, we will announce our decision regarding the import status of garlic from the European Union and other countries in a subsequent notice. If the overall conclusions of the CIED and the Administrator's determination of risk remain unchanged following our consideration of the comments, then we will begin issuing permits for importation of garlic from the EU and other countries into the continental United States subject to the requirements specified in the CIED.

Authority: 7 U.S.C. 450, 7701-7772, and 7781-7786; 21 U.S.C. 136 and 136a; 7 CFR 2.22, 2.80, and 371.3.

Done in Washington, DC, this 16th day of March 2011.
Kevin Shea,
Acting Administrator, Animal and Plant Health Inspection Service.

[FR Doc. 2011-6536 Filed 3-18-11; 8:45 am]

BILLING CODE 3410-34-P